DEPARTMENT OF TRANSPORTATION

Federal Aviation Administration

[Summary Notice No. PE-2021-2054]

Petition for Exemption; Summary of Petition Received; Rolls-Royce Deutschland Ltd & Co KG (Type Certificate Previously Held by Rolls-Royce plc)

AGENCY: Federal Aviation Administration (FAA), Department of Transportation (DOT).

ACTION: Notice of petition for exemption received.

SUMMARY: This notice contains a summary of a petition by Rolls-Royce Deutschland LTD & Co KG seeking relief from specific regulatory requirements. The purpose of this notice is to improve the public's awareness of, and participation in, the FAA's exemption process. Neither publication of this notice nor the inclusion or omission of information in the summary is intended to affect the legal status of the petition or its final disposition.

DATES: Comments on this petition must identify the petition docket number and must be received on or before April 1, 2021.

ADDRESSES: You may send comments using any of the following methods:

• Federal eRulemaking Portal: Go to https://www.regulations.gov. Follow the instructions for submitting comments.

• Fax: (202) 493 2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Tara Fitzgerald, Federal Aviation Administration, Policy Implementation, AIR-613, Strategic Policy Management Branch, 1200 District Avenue, Burlington, Massachusetts 01803-5529; (781) 238-7130; facsimile: (781) 238-7199; email: Tara.Fitzgerald@faa.gov.

This notice is published pursuant to 14 CFR 11.85.

Issued in Burlington, Massachusetts, on January 29, 2021.
Robert J. Ganley,
Strategic Policy Propulsion Section, Aircraft Certification Service.

Petition for Exemption

Docket No.: FAA-2018-0880.

Petitioner: Rolls-Royce Deutschland Ltd & Co KG (RRD).

Section(s) of 14 CFR Affected: § 33.14 at amendment 33-10 and § 33.83(d) at amendment 33-17.

Description of Relief Sought: RRD requests an extension until 30 June 2023, to previously granted temporary Exemption No 18082 from 14 CFR 33.14 and § 33.83(d) for the following RRD engine models: Trent 1000-AE3, Trent 1000-CE3, Trent 1000-D3, Trent 1000-G3, Trent 1000-H3, Trent 1000-J3, Trent 1000-K3, Trent 1000-L3, Trent 1000-M3, Trent 1000-N3, Trent 1000-P3, Trent 1000-Q3, Trent 1000-R3, Trent 7000-72, and Trent 7000-72C. Because of the COVID-19 pandemic and resultant significant changes to the Trent 1000 fleet usage profile and engine overhaul capacity during 2020, the date of 31 December 2021, for restoring compliance with 14 CFR 33.14 and § 33.83(d) can no longer reasonably be met.

[FR Doc. 2021-02206 Filed 3-11-21; 8:45 am]

BILLING CODE 4910-13-P